DEPARTMENT OF JUSTICE

Antitrust Division

Notice Pursuant to the National Cooperative Research and Production Act of 1993—Testing of Methods for Measuring Hydrocarbon Dew Points in Natural Gas Streams

Notice is hereby given that, on May 13, 2008, pursuant to section 6(a) of the National Cooperative Research and Production Act of 1993, 15 U.S.C. 4301 et seq. (“the Act”), SwRI: Testing of Methods for Measuring Hydrocarbon Dew Points in Natural Gas Streams has filed written notifications simultaneously with the Attorney General and the Federal Trade Commission disclosing changes in its nature and objective. The notifications were filed for the purpose of extending the Act's provisions limiting the recovery of antitrust plaintiffs to actual damages under specified circumstances. Specifically, the period of performance has been extended to July 31, 2008.

No other changes have been made in either the membership or planned activity of the group research project. Membership in this group research project remains open, and SwRI intends to file additional written notifications disclosing all changes in membership.

On March 20, 2007, SwRI: Testing of Methods for Measuring Hydrocarbon Dew Points in Natural Gas Streams filed its original notification pursuant to section 6(a) of the Act. The Department of Justice published a notice in the Federal Register pursuant to section 6(b) of the Act on April 16, 2007 (72 FR 19023).

The last notification was filed with the Department on October 30, 2007. A notice was published in the Federal Register pursuant to section 6(b) of the Act on December 20, 2007 (72 FR 72389).

J. Robert Kramer, II,
Director of Operations, Antitrust Division.

[FR Doc. E8-14598 Filed 6-26-08; 8:45 am]

BILLING CODE 4410-11-M